DEPARTMENT OF AGRICULTURE

Rural Utilities Service

Southern Montana Electric Cooperative, Inc.; Notice of Intent To Hold a Public Scoping Meeting and Prepare an Environmental Impact Statement

AGENCY: Rural Utilities Service, USDA.

ACTION: Notice of intent to hold a public scoping meeting and prepare an environmental impact statement.

SUMMARY: The Rural Utilities Service (RUS) intends to hold a public scoping meeting and prepare an environmental impact statement (EIS) in connection with possible impacts related to a project being proposed by Southern Montana Electric Cooperative, Inc. (SME), of Billings, Montana. The proposal consists of the construction and operation of a coal-fired electric generation facility, consisting of a single 250 Megawatt (MW) unit, at a site near Great Falls, Montana.

DATES: RUS will conduct the public scoping meetings in an open-house format on October 13, 2004, from 3 p.m. to 7 p.m., at the Civic Center in Great Falls, Montana.

FOR FURTHER INFORMATION CONTACT: Nurul Islam, Environmental Protection Specialist, RUS, Engineering and Environmental Staff, 1400 Independence Avenue, SW., Stop 1571, Washington, DC 20250-1571, telephone: (202) 720-1414 or email: nurul.islam@usda.gov, or Tim R. Gregori, General Manager, Southern Montana Electric Cooperative, Inc., 3521 Gabel Road, Suite 5, Billings, MT 59102, telephone: (406) 294-9527, or email: gregori@mcn.net.

SUPPLEMENTARY INFORMATION: SME proposes to construct and operate a 250 MW coal-fired electric generation facility at one of two sites near Great Falls, Montana. The Salem Industrial site is located east of Highway 87 in the Great Falls Industrial Park. The Salem site is located near the intersection of Salem Road and the abandon Milwaukee, St. Paul and Pacific railroad bed. Construction of the project at either site will require the construction of new electric transmission lines that will interconnect with the Great Falls Substation and the Great Falls to Broadview 230 kilovolt electric transmission line. The schedule developed by SME would place the facility in commercial operation by the spring of 2009. Alternatives to be considered by RUS include no action, purchased power, renewable energy sources, distributed generation, and alternative site locations. Comments regarding the proposed project may be submitted (orally or in writing) at the public scoping meeting or in writing within 30 days after the October 13, 2004 meeting to RUS at the address provided in this notice.

RUS will use input provided by government agencies, private organizations, and the public, in the preparation of a Draft EIS. The Draft EIS will be available for review and comment for 45 days. A Final EIS will then be prepared that considers all comments received. The Final EIS will be available for review and comment for 30 days. Following the 30-day comment period, RUS will prepare a Record of Decision (ROD). Notices announcing the availability of the Draft and Final EIS and the ROD will be published in the Federal Register and in local newspapers.

Any final action by RUS related to the proposed project will be subject to, and contingent upon, compliance with all relevant Federal, State and local environmental laws and regulations and completion of the environmental review requirements as prescribed in the RUS Environmental Policies and Procedures (7 CFR Part 1794).

Dated: September 20, 2004.
Mark S. Plank,
Acting Director, Engineering and Environmental Staff.

[FR Doc. 04-21511 Filed 9-23-04; 8:45 am]

BILLING CODE 3410-15-P